DEPARTMENT OF ENERGY

Federal Energy Regulatory Commission

[Docket No. ER99-3288-001]

Arizona Public Service Company; Notice of Filing

March 20, 2001.

Take notice that on February 6, 2001, Arizona Public Service Company (APS), tendered for filing Quarterly Refund payments to eligible wholesale customers under the Company's Fuel Cost Adjustment Clause (FAC).

A copy of this filing has been served upon the affected parties, the California Public Utilities Commission, and the Arizona Corporation Commission.

Customer name | APS-FPC/FERC rate schedule
Electrical District No. 3 | 12
Tohono O'odham Utility Authority¹ | 52
Arizona Electric Power Cooperative | 57
Welton-Mohawk Irrigation and Drainage District | 58
Arizona Power Authority | 59
Colorado River Indian Irrigation Project | ² 65
Electrical District No. 1 | 68
Arizona Power Pooling | 70
Town of Wickenburg | 74
Southern California Edison Company | 120
Electrical District No. 6 | 126
Electrical District No. 7 | 128
City of Page | 134
Electrical District No. 8 | 140
Aquila Irrigation District | 141
McMullen Valley Water Conservation and Drainage District | 142
Tonopah Irrigation District | 143
Citizens Utilities Company | ³ 207
Haquahala Valley Power District | 153
Buckeye Water Conservation and Drainage District | 155
Roosevelt Irrigation District | 158
Maricopa County Municipal Water Conservation District | 168
City of Williams | 192
San Carlos Indian Irrigation Project | 201
Maricopa County Municipal Water Conservation District at Lake Pleasant | 209
¹ Formerly Papago Utility Tribal Authority.
² APS-FPC/FERC Rate Schedule in effect during the refund period.
³ APS-FPC/FERC Rate Schedule in effect during the refund period.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before March 30, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-7454 Filed 3-23-01; 8:45 am]

BILLING CODE 6717-01-M